Title 3—

The President

Proclamation 9802 of October 8, 2018

Leif Erikson Day, 2018

By the President of the United States of America

A Proclamation

More than a millennium ago, Leif Erikson sailed across the frigid Atlantic and set foot on North America, likely becoming the first European to reach our continent. On Leif Erikson Day, we celebrate the extraordinary journey made by this son of Iceland and grandson of Norway with his crew and recognize the immeasurable contributions that generations of Nordic Americans have made to our Nation.

After converting to Christianity in Norway, “Leif the Lucky” set out to bring the Gospel to settlers in his native Greenland. During his extensive travels, he landed on the northern Atlantic coast, expanding mankind's knowledge of then-uncharted territory. Centuries later, many Nordic families followed his example and set sail for America with the same determination and grit. After much struggle and sacrifice, these intrepid men and women arrived on our shores with hope for a better life.

Today, we recognize the descendants of immigrants from Iceland, Norway, Denmark, Sweden, and Finland for the tremendous role they have played in developing the indomitable spirit that defines the American people. Nordic Americans have traveled in space, crisscrossed the globe by single-engine monoplane, and advanced knowledge in science and engineering. Nordic Americans have won Oscars, Grammy Awards, Pulitzer Prizes, and Nobel Prizes. They have fought—and died—in each of our Nation's wars.

We also reflect on the deep and enduring ties we have with the Nordic countries. They are among our greatest allies in the fight against terrorism, and they are important trading partners. We renew our commitment to continue strengthening these transatlantic relationships.

To honor Leif Erikson and celebrate our Nordic-American heritage, the Congress, by joint resolution (Public Law 88-566) approved on September 2, 1964, has authorized the President of the United States to proclaim October 9 of each year as “Leif Erikson Day.”

NOW, THEREFORE, I, DONALD J. TRUMP, President of the United States of America, by virtue of the authority vested in me by the Constitution and the laws of the United States, do hereby proclaim October 9, 2018, as Leif Erikson Day. I call upon all Americans to celebrate the contributions of Nordic Americans to our Nation with appropriate ceremonies, activities, and programs.

IN WITNESS WHEREOF, I have hereunto set my hand this eighth day of October, in the year of our Lord two thousand eighteen, and of the Independence of the United States of America the two hundred and forty-third.

[FR Doc. 2018-22376

Filed 10-11-18; 8:45 am]

Billing code 3295-F9-P